DEPARTMENT OF COMMERCE

International Trade Administration

[A-533-810]

Stainless Steel Bar from India: Extension of Time Limit for the Final Results of the Antidumping Duty Administrative Review

AGENCY: Import Administration, International Trade Administration, Department of Commerce.

EFFECTIVE DATE: June 26, 2007.

FOR FURTHER INFORMATION CONTACT: Scott Holland or Brandon Farlander, AD/CVD Operations, Office 1, Import Administration, International Trade Administration, U.S. Department of Commerce, 14th Street and Constitution Avenue, NW, Washington DC 20230; telephone (202) 482-1279 or (202) 482-0182, respectively.

SUPPLEMENTARY INFORMATION:

Background

On March 7, 2007, the Department of Commerce (“the Department”) published the preliminary results of the administrative review of the antidumping duty order on stainless steel bar from India covering the period February 1, 2005, through January 31, 2006. See Notice of Notice of Preliminary Results of Antidumping Duty Administrative Review, Intent to Rescind and Partial Rescission of Antidumping Duty Administrative Review: Stainless Steel Bar from India, 72 FR 10151 (March 7, 2007). The final results for this administrative review are currently due no later than July 5, 2007.

Extension of Time Limits for Final Results

Section 751(a)(3)(A) of the Tariff Act of 1930, as amended (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

In accordance with 782(i)(3) of the Act, the Department conducted on-site verification of responses submitted by two respondents in this review in May and June 2007. Accordingly, the Department must still issue the verification findings. Therefore, we find that it is not practicable to complete this review within the originally anticipated time limit (i.e., by July 5, 2007). Thus, the Department is extending the time limit for completion of the final results to no later than September 6, 2007, in accordance with section 751(a)(3)(A) of the Act.

We are issuing and publishing this notice in accordance with sections 751(a)(3)(A) and 777(i)(1) of the Act.

Dated: June 19, 2007.
Stephen J. Claeys,
Deputy Assistant Secretary for Import Administration.

[FR Doc. E7-12330 Filed 6-25-07; 8:45 am]

BILLING CODE 3510-DS-S